DEPARTMENT OF ENERGY

Federal Energy Regulatory Commission

[Docket No. RP96-389-070]

Columbia Gulf Transmission Company; Notice of Compliance Filing

November 6, 2002.

Take notice that on November 1, 2002, Columbia Gulf Transmission Company (Columbia Gulf) tendered for filing as part of its FERC Gas Tariff, Second Revised Volume No. 1, Seventh Revised Sheet No. 316, to become effective October 22, 2002.

Columbia Gulf states on September 27, 2002, it made a filing with the Commission seeking approval of a Rate Schedule PAL negotiated rate agreement Occidental Energy Marketing, Inc. (Occidental) in Docket No. RP96-389-068. On October 22, 2002, the Commission issued an order approving the service agreement effective October 1, 2002. The order directed Columbia Gulf to file a tariff sheet identifying the agreement as a non-conforming agreement in compliance with Section 154.112(b) of the Commission's regulations. The instant filing is being made to comply with Section 154.112(b) and reference the non-conforming service agreement in its Volume No. 1 tariff.

Any person desiring to protest said filing should file a protest with the Federal Energy Regulatory Commission, 888 First Street, NE., Washington, DC 20426, in accordance with section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings.See, 18 CFR 385.2001(a)(1)(iii) and the instructions on the Commission's web site under the “e-Filing” link.

Magalie R. Salas,
Secretary.

[FR Doc. 02-28790 Filed 11-12-02; 8:45 am]

BILLING CODE 6717-01-P